LEGAL SERVICES CORPORATION

Sunshine Act Meeting of the Board of Directors Ad Hoc Committee on Performance Reviews of the President and Inspector General

Time and Date: The Ad Hoc Committee on Performance Reviews of the President and Inspector General of the Legal Services Corporation's Board of Directors will meet on November 9, 2002. The meeting will begin at 1 p.m. and continue until conclusion of the committee's agenda.

Location: The W Los Angeles Hotel, 930 Hilgard Avenue, Los Angeles, CA

Status of Meeting: Except for approval of the committee's agenda and any miscellaneous business that may come before the committee, the meeting will be closed to the public. The closing is authorized by the relevant provisions of the Government in the Sunshine Act [5 U.S.C. 552b(c)(2) & (6)] and the corresponding provisions of the Legal Services Corporation's implementing regulation [45 CFR 1622.5(a) & (e)]. A copy of the General Counsel's Certification that the closing is authorized by law will be available upon request.

Matters To Be Considered: Open Session:

1. Approval of agenda.

Closed Session:

2. Conduct a performance appraisal of the President of the Corporation.

3. Conduct a performance appraisal of the Acting Inspector General of the Corporation.

Open Session:

4. Consider and act on other business.

FOR MORE INFORMATION CONTACT: Victor M. Fortuno, General Counsel and Secretary of the Corporation, at (202) 336-8800.

Special Needs: Upon request, meeting notices will be made available in alternate formats to accommodate visual and hearing impairments. Individuals who have a disability and need an accommodation to attend the meeting may notify Elizabeth Cushing at (202) 336-8800.

Dated: November 1, 2002.
Victor M. Fortuno,
Vice President for Legal Affairs, General Counsel, and Corporate Secretary.

[FR Doc. 02-28302 Filed 11-4-02; 10:12 am]

BILLING CODE 7050-01-P